ENVIRONMENTAL PROTECTION AGENCY

40 CFR Part 52

[EPA-R01-OAR-2009-0433; EPA-R01-OAR-2012-0149; A-1-FRL-9754-7]

Approval and Promulgation of Air Quality Implementation Plans; Massachusetts and New Hampshire; Enhanced Motor Vehicle Inspection and Maintenance Program

AGENCY: Environmental Protection Agency (EPA).

ACTION: Proposed rule.

SUMMARY: EPA is proposing to approve State Implementation Plan (SIP) revisions submitted by the Commonwealth of Massachusetts and the State of New Hampshire. These revisions include regulations to update the enhanced motor vehicle inspection and maintenance (I/M) programs in Massachusetts and New Hampshire. The revised programs in Massachusetts and New Hampshire include a test and repair network for an on-board diagnostic (OBD2) testing program for model year 1996 and newer vehicles. The intended effect of this action is to propose approval of the revised programs into the Massachusetts and New Hampshire SIPs. This action is being taken under the Clean Air Act.

DATES: Written comments must be received on or before February 25, 2013.

ADDRESSES: Submit your comments, identified by Docket ID No. EPA-R01-OAR-2009-0433 for comments pertaining to our proposed approval action for Massachusetts or EPA-R01-OAR-2012-0149 for comments pertaining to our proposed approval action for New Hampshire by one of the following methods:

1. www.regulations.gov: Follow the on-line instructions for submitting comments.

2. Email: arnold.anne@epa.gov.

3. Fax: (617) 918-0047.

4. Mail: “Docket Identification Number EPA-R01-OAR-2009-0433 or EPA-R01-OAR-2012-0149,” Anne Arnold, U.S. Environmental Protection Agency, EPA New England Regional Office, 5 Post Office Square—Suite 100, (Mail code OEP05-2), Boston, MA 02109-3912.

5. Hand Delivery or Courier. Deliver your comments to: Anne Arnold, Manager, Air Quality Planning Unit, Office of Ecosystem Protection, U.S. Environmental Protection Agency, EPA New England Regional Office, 5 Post Office Square—Suite 100, (Mail code OEP05-2), Boston, MA 02109-3912. Such deliveries are only accepted during the Regional Office's normal hours of operation. The Regional Office's official hours of business are Monday through Friday, 8:30 to 4:30, excluding legal holidays.

Please see the direct final rule which is located in the Rules Section of this Federal Register for detailed instructions on how to submit comments.

FOR FURTHER INFORMATION CONTACT: Ariel Garcia, Air Quality Planning Unit, U.S. Environmental Protection Agency, EPA New England Regional Office, 5 Post Office Square, Suite 100 (Mail code: OEP05-2), Boston, MA 02109-3912., telephone number (617) 918-1660, fax number (617) 918-0660, email garcia.ariel@epa.gov.

SUPPLEMENTARY INFORMATION: In the Final Rules Section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: November 15, 2012.
H. Curtis Spalding,
Regional Administrator, EPA New England.

[FR Doc. 2013-00930 Filed 1-24-13; 8:45 am]

BILLING CODE 6560-50-P